DEPARTMENT OF DEFENSE

Department of the Navy

Notice of Intent To Grant Exclusive Patent License; Radiant Images Incorporated

AGENCY: Department of the Navy, DOD.

ACTION: Notice.

SUMMARY: The Department of the Navy hereby gives notice of its intent to grant to Radiant Images Incorporated, a revocable, nonassignable, exclusive license in the United States to practice the Government-owned invention described in pending U.S. Patent Application, Ser. No. 10/614,426 entitled “Silicon-On-Saphire Display Apparatus and Method of Fabricating Same”.

DATES: Anyone wishing to object to the granting of this license has (15) days from the date of this notice to file written objections along with supporting evidence, if any.

ADDRESSES: Written objections are to be filed with the Office of Patent Counsel, Space and Naval Warfare Systems Center, Code 20012, 53510 Silvergate Ave., Room 103, San Diego, CA 92152-5765.

FOR FURTHER INFORMATION CONTACT: Mr. Peter A. Lipovsky, Space and Naval Warfare Systems Center, Code 20012, 53510 Silvergate Ave., Room 103, San Diego, CA 92152-5765, telephone 619-553-3824.

(Authority: 35 U.S.C. 207, 37 CFR Part 404.7(a).)

Dated: December 27, 2004.
J.H. Wagshul,
Commander, Judge Advocate General's Corps, U.S. Navy, Federal Register Liaison Officer.

[FR Doc. 04-28708 Filed 12-30-04; 8:45 am]

BILLING CODE 3810-FF-P